DEPARTMENT OF TRANSPORTATION

Federal Aviation Administration

14 CFR Part 71

[Docket No. FAA-2013-0622; Airspace Docket No. 13-AWP-10]

Proposed Modification of Class D and Class E Airspace; Kailua-Kona, HI

AGENCY: Federal Aviation Administration (FAA), DOT.

ACTION: Notice of proposed rulemaking (NPRM).

SUMMARY: This action proposes to modify Class D and E airspace at Kona International Airport at Keahole, Kailua-Kona, HI. Controlled airspace is necessary to accommodate the Area Navigation (RNAV) Global Positioning System (GPS) and the Instrument Landing System (ILS) or Localizer (LOC) standard instrument approach procedures at the airport. The geographic coordinates of the airport also would be adjusted in the respective Class D and E airspace areas, and the airport name will be corrected to Kona International Airport at Keahole. This action, initiated by the biennial review of the Kona airspace area, would enhance the safety and management of aircraft operations at the airport.

DATES: Comments must be received on or before December 16, 2013.

ADDRESSES: Send comments on this proposal to the U.S. Department of Transportation, Docket Operations, M-30, West Building Ground Floor, Room W12-140, 1200 New Jersey Avenue SE., Washington, DC 20590; telephone (202) 366-9826. You must identify FAA Docket No. FAA-2013-0622; Airspace Docket No. 13-AWP-10, at the beginning of your comments. You may also submit comments through the Internet at http://www.regulations.gov.

FOR FURTHER INFORMATION CONTACT: Eldon Taylor, Federal Aviation Administration, Operations Support Group, Western Service Center, 1601 Lind Avenue SW., Renton, WA 98057; telephone (425) 203-4537.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA 2013-0622 and Airspace Docket No. 13-AWP-10) and be submitted in triplicate to the Docket Management System (see ADDRESSES section for address and phone number). You may also submit comments through the Internet at http://www.regulations.gov.

Commenters wishing the FAA to acknowledge receipt of their comments on this action must submit with those comments a self-addressed stamped postcard on which the following statement is made: “Comments to FAA Docket No. FAA-2013-0622 and Airspace Docket No. 13-AWP-10”. The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov. Recently published rulemaking documents can also be accessed through the FAA's Web page at http://www.faa.gov/airports_airtraffic/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 1601 Lind Avenue SW., Renton, WA 98057.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14 Code of Federal Regulations (14 CFR) Part 71 by modifying the Class E airspace area extending upward from 700 feet above the surface, at Kona International Airport at Keahole, Kailua-Kona, HI. The segment of controlled airspace extending from the 7.4-mile radius of the airport is increased from 8.5 miles to 14.5 miles south of the airport to accommodate the RNAV (GPS) and ILS or LOC standard instrument approach procedures. Also, the geographic coordinates of the airport would be updated to coincide with the FAA's aeronautical database for the respective Class D and E airspace areas. The airport formerly called Kailua-Kona, Keahole Airport, Keahole Airport is corrected to Kona International Airport at Keahole. This action was initiated by a biennial review of the airspace and is necessary for the safety and management of aircraft operations at the airport.

Class D and Class E airspace designations are published in paragraphs 5000, 6004 and 6005, respectively, of FAA Order 7400.9X, dated August 7, 2013, and effective September 15, 2013, which is incorporated by reference in 14 CFR 71.1. The Class D and Class E airspace designations listed in this document will be published subsequently in this Order.

The FAA has determined this proposed regulation only involves an established body of technical regulations for which frequent and routine amendments are necessary to keep them operationally current. Therefore, this proposed regulation; (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this proposed rule, when promulgated, would not have a significant economic impact on a substantial number of small entities under the criteria of the Regulatory Flexibility Act.

The FAA's authority to issue rules regarding aviation safety is found in Title 49 of the U.S. Code. Subtitle 1, Section 106, describes the authority for the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This proposed regulation is within the scope of that authority as it would modify controlled airspace at Kona International Airport at Keahole, Kailua-Kona, HI.

This proposal will be subject to an environmental analysis in accordance with FAA Order 1050.1E, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013 is amended as follows:

Paragraph 5000 Class D airspace.

* * * * *

AWP HI D Kailua-Kona, HI [Modified]

Kona International Airport at Keahole, HI

(Lat. 19°44′20″ N., long. 156°02′44″ W.)

That airspace extending upward from the surface to and including 2,500 feet MSL within a 4.3-mile radius of Kona International Airport at Keahole. This Class D airspace area is effective during the specific dates and times established in advance by a Notice to Airmen. The effective date and time will thereafter be continuously published in the Airport/Facility Directory, Pacific Chart Supplement.

Paragraph 6004 Class E airspace designated as an extension to Class D surface area.

* * * * *

AWP HI E4 Kailua-Kona, HI [Modified]

Kona International Airport at Keahole, HI

(Lat. 19°44′20″ N., long. 156°02′44″ W.)

That airspace extending upward from the surface within 2.8 miles either side of the 186° bearing of the Kona International Airport at Keahole extending from the 4.3-mile radius of the airport to 5.7 miles south of the airport, and within 4.3 miles either side of the 006° bearing of the airport extending from the 4.3-mile radius to 11.5 miles north of the airport.

This Class E airspace area is effective during the specific dates and times established in advance by a Notice to Airmen. The effective date and time will thereafter be continuously published in the Airport/Facility Directory, Pacific Chart Supplement.

Paragraph 6005 Class E airspace areas extending upward from 700 feet or more above the surface of the earth.

* * * * *

AWP HI E5 Kailua-Kona, HI [Modified]

Kona International Airport at Keahole, HI

(Lat. 19°44′20″ N., long. 156°02′44″ W.)

That airspace extending upward from 700 feet above the surface within a 7.4-mile radius of the Kona International Airport at Keahole, and within 4.3 miles each side of the 006° bearing of the airport extending from the 7.4-mile radius to 11.5 miles north of the airport, and within 4 miles each side of the 186° bearing of the airport extending from the 7.4-mile radius to 8.5 miles south of the airport.

Issued in Seattle, Washington, on October 23, 2013.
Clark Desing,
Manager, Operations Support Group, Western Service Center.

[FR Doc. 2013-25994 Filed 10-30-13; 8:45 am]

BILLING CODE 4910-13-P